FARM CREDIT ADMINISTRATION

12 CFR Part 611

RIN 3052-AC29

Organization; Termination of System Institution Status; Effective Date

AGENCY: Farm Credit Administration.

ACTION: Notice of effective date.

SUMMARY: The Farm Credit Administration (FCA) published a final rule under part 611 on August 4, 2006 (71 FR 44410). This final rule updates the termination procedures for Farm Credit System banks and associations under sections 7.9, 7.10 and 7.11 of the Farm Credit Act of 1971, as amended, ensures that interested parties have sufficient time and opportunities to be fully informed about a termination proposal, and ensures that a significant proportion of equity holders are engaged in the termination process. In accordance with 12 U.S.C. 2252, the effective date of the final rule is 30 days from the date of publication in the Federal Register during which either or both Houses of Congress are in session. Based on the records of the sessions of Congress, the effective date of the regulations is January 4, 2007.

EFFECTIVE DATE: The regulation amending 12 CFR part 611, published on August 4, 2006 (71 FR 44410) is effective January 4, 2007.

FOR FURTHER INFORMATION CONTACT:

Thomas Dalton, Senior Staff Accountant, Office of Policy and Analysis, Farm Credit Administration, McLean, VA 22102-5090, (703) 883-4498, TTY (703) 883-4434;

or

Rebecca S. Orlich, Senior Counsel, Office of General Counsel, Farm Credit Administration, McLean, VA 22102-5090, (703) 883-4020, TTY (703) 883-4020.

(12 U.S.C. 2252(a)(9) and (10))

Dated: January 5, 2007.
James M. Morris,
Acting Secretary, Farm Credit Administration Board.

[FR Doc. E7-214 Filed 1-10-07; 8:45 am]

BILLING CODE 6705-01-P